DEPARTMENT OF TRANSPORTATION

Pipeline and Hazardous Materials Safety Administration

Office of Hazardous Materials Safety; Notice of Applications for Modification of Exemption

AGENCY: Pipeline and Hazardous Materials Safety Administration, DOT.

ACTION: List of Applications for Modification of Exemption.

SUMMARY: In accordance with the procedures governing the application for, and the processing of, exemptions from the Department of Transportation's Hazardous Material Regulations (49 CFR part 107, subpart B), notice is hereby given that the Office of Hazardous Materials Safety has received the application described herein. This notice is abbreviated to expedite docketing and public notice. Because the sections affected, modes of transportation, and the nature of application have been shown in earlier Federal Register publications, they are not repeated here. Request of modifications of exemptions (e.g. to provide for additional hazardous materials, packaging design changes, additional mode of transportation, etc.) are described in footnotes to the application number. Application numbers with the suffix “M” denote a modification request. There applications have been separated from the new application for exemption to facilitate processing.

DATES: Comments must be received on or before December 8, 2005.

ADDRESSES: Record Center, Pipeline and Hazardous Materials Safety Administration, U.S. Department of Transportation, Washington, DC 20590.

Comments should refer to the application number and be submitted in triplicate. If Confirmation of receipt of comments is desired, include a self-addressed stamped postcard showing the exemption number.

FOR FURTHER INFORMATION CONTACT: Copies of the applications are available for inspection in the Records Center, Nassif Building, 400 7th Street, SW., Washington, DC or at http://dms.dot.gov.

This notice of receipt of applications for modification of exemption is published in accordance with part 107 of the Federal hazardous materials transportation law (49 U.S.C. 5117(b); 49 CFR 1.53(b)).

Issued in Washington, DC, on November 17, 2005.
R. Ryan Posten,
Chief, Special Permits Program, Office of Hazardous Materials Special Permits & Approvals.

Modification Exemptions
Application No. | Docket No. | Applicant | Regulation(s) affected | Modification of exemption | Nature of exemption thereof
5206-M |  | Nelson Brothers, LLC Birmingham, AL | 49 CFR 173.3(a); 173.3(b); 173.24(c); 173.60 | 5206 | To modify the special permit to authorize the transportation of an additional Division 1.5D material in privately operated bulk hopper-type motor vehicles.
7887-M |  | Estes-Cox Corporation, d/b/a Estes Industries Penrose, CO | 49 CFR 172.101; 175.3 | 7887 | To modify the special permit to allow igniters, Division 1.4S, to be shipped in the same inner and outer packaging as model rocket motors and with nonhazardous materials needed to construct model rockets.
10407-M |  | Thermo Measure Tech Sugar Land, TX | 49 CFR 173.302a(a); 175.3 | 10407 | To modify the special permit to authorize the use of an alternative radiation detector or ionization chamber for the transportation of Division 2.2 materials.
10878-M |  | Tankcon FRP, Inc. Boisbriand, OC | 49 CFR 172.102(c)(3); 173.242 | 10878 | To modify the special permit to waive the requirements for shipping papers to bear the DOT-SP number when transporting Class 8 materials in FRP cargo tanks.
11646-M |  | Barton Solvents, Inc. Des Moines, IA | 49 CFR 172.203(a); 172.301(c); 177.834(h) | 11646 | To modify the special permit to authorize the discharge of a Class 8 and an additional Class 3 material from a DOT Specification drum without removing the drum from the vehicle.
12561-M | RSPA-00-8305 | Rhodia Inc. Cranbury, NJ | 49 CFR 172.203(a); 173.31; 179.13 | 12561 | To modify the special permit to authorize the use of 60 additional DOT Specification tank cars for the transportation of Class 8 materials.
13182-M | RSPA-02-14023 | Cytec Industries Inc. West Paterson, NJ | 49 CFR 173.192(a); 173.304a(b) | 13182 | To modify the special permit to authorize the maximum fill density to 45% for the DOT Specification and non-DOT specification cyliners transporting a Division 2.3 material.
13245-M | RSPA-03-15985 | Piper Metal Forming Corporation New Albany, MS | 49 CFR 173.302(a)(1); 175.3 | 13245 | To modify the special permit to authorize a new neck configuration design for the non-refillable, non-DOT specification cylinders transporting Division 2.2 materials.
13481-M |  | Onyx Environmental Services, L.L.C. Ledgewood, NJ | 49 CFR 172.320; 173.54(a), (e) and (j); 173.56(b); 173.57; 173.58; 173.60; 173.62 | 13481 | To modify the exemption to authorize the transportation of solid explosive substances in special shipping containers.
13583-M | RSPA-04-18507 | Structural Composites Industries Pomona, CA | 49 CFR 178.35 | 13583 | To modify the special permit to authorize an alternative test method and extend the service life of each non-DOT specification composite cylinder for up to 30 years.
13599-M | RSPA-04-18712 | Air Products & Chemicals, Inc. Allentown, PA | 49 CFR 173.304a(a)(2) | 13599 | To modify the special permit to authorize an increase in fill densities/ratios for the DOT Specification seamless steel cylinders transporting a Division 2.2 material.
13738-M | RSPA-04-18889 | Department of Energy Washington, DC | 49 CFR 173.420(a)(4) | 13738 | To modify the special permit to provide relief from the marking requirements for shipment of cylinders with missing or illegible nameplates containing a Class 7 material.

[FR Doc. 05-23170 Filed 11-23-05; 8:45 am]

BILLING CODE 4909-60-M